DEPARTMENT OF HOMELAND SECURITY

Federal Emergency Management Agency

[Docket ID FEMA-2016-0002; Internal Agency Docket No. FEMA-B-1657]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before February 27, 2017.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1657, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: November 16, 2016.
Roy E. Wright,
Deputy Associate Administrator for Insurance and Mitigation, Department of Homeland Security, Federal Emergency Management Agency.

I. Non-watershed-based studies:

Community | Community map repository address
Appanoose County, Iowa and Incorporated Areas
Maps Available for Inspection Online at: http://www.fema.gov/preliminaryfloodhazarddata
Project: 16-07-0169S Preliminary Date: April 12, 2016
City of Centerville | City Hall, 312 East Maple Street, Centerville, IA 52544.
City of Cincinnati | City Hall, 101 Alpine Street, Cincinnati, IA 52549.
City of Moravia | Municipal Building, 116 South William Street, Moravia, IA 52571.
City of Mystic | City Hall, 304 West Main Street, Mystic, IA 52574.
City of Plano | City Hall, 311 3rd Street, Plano, IA 52581.
City of Rathbun | City Hall, 411 Main Street, Rathbun, IA 52544.
Town of Unionville | Town Hall, 109 West Union Street, Unionville, IA 52594.
Unincorporated Ares of Appanoose County | Appanoose County Board of Supervisors Office, 201 North 12th Street, Centerville, IA 52544.
Clarke County, Iowa and Incorporated Areas
Maps Available for Inspection Online at: http://www.fema.gov/preliminaryfloodhazarddata
Project: 16-07-0172S Preliminary Date: April 12, 2016
City of Osceola | City Hall, 115 North Fillmore Street, Osceola, IA 50213.
City of Woodburn | City Hall, 607 Sigler Street, Woodburn, IA 50275.
Unincorporated Ares of Clarke County | Clarke County Courthouse, 100 South Main Street, Osceola, IA 50213.
Davis County, Iowa and Incorporated Areas
Maps Available for Inspection Online at: http://www.fema.gov/preliminaryfloodhazarddata
Project: 16-07-0174S Preliminary Date: April 12, 2016
City of Bloomfield | City Hall, 11 West Franklin Street, Bloomfield, IA 52537.
City of Floris | City Hall, 103 Monroe Street, Floris, IA 52560.
Unincorporated Ares of Davis County | Davis County Highway Department, 21585 Lilac Avenue, Bloomfield, IA 52537.
Decatur County, Iowa and Incorporated Areas
Maps Available for Inspection Online at: http://www.fema.gov/preliminaryfloodhazarddata
Project: 16-07-0178S Preliminary Date: April 21, 2016
City of Davis City | City Hall, Community Center, North Bridge Street, Davis City, IA 50065.
City of Grand River | City Hall, 126 Broadway Street, Grand River, IA 50108.
City of Lamoni | City Hall, 190 South Chestnut Street, Lamoni, IA 50140.
City of Leon | City Hall, 104 West 1st Street, Leon, IA 50144.
Unincorporated Ares of Decatur County | Decatur County Engineer's Office, 1306 South Main Street, Leon, IA 50144.
Hancock County, Iowa and Incorporated Areas
Maps Available for Inspection Online at: http://www.fema.gov/preliminaryfloodhazarddata
Project: 16-07-0180S Preliminary Date: May 20, 2016
City of Britt | City Hall, 170 Main Avenue South, Britt, IA 50423.
City of Corwith | City Hall, 108 Northwest Elm Street, Corwith, IA 50430.
City of Crystal Lake | City Hall, 225 State Avenue South, Crystal Lake, IA 50432.
City of Forest City | City Hall, 305 North Clark Street, Forest City, IA 50436.
City of Garner | City Hall, 135 West 5th Street, Garner, IA 50438.
City of Kanawha | City Hall, 121 North Main Street, Kanawha, IA 50477.
City of Woden | City Hall, 302 Main Avenue, Woden, IA 50484.
Unincorporated Ares of Hancock County | Hancock County Courthouse, 855 State Street, Garner, IA 50438.
Lucas County, Iowa and Incorporated Areas
Maps Available for Inspection Online at: http://www.fema.gov/preliminaryfloodhazarddata
Project: 16-07-0206S Preliminary Date: April 21, 2016
City of Chariton | City Hall, 115 South Main Street, Chariton, IA 50049.
City of Lucas | Community Center, 111 East Front Street, Lucas, IA 50151.
City of Russell | City Hall, 115 South Maple Street, Russell, IA 50238.
Unincorporated Ares of Lucas County | Lucas County Secondary Roads Department, 916 Braden Avenue, Chariton, IA 50049.
Marion County, Iowa and Incorporated Areas
Maps Available for Inspection Online at: http://www.fema.gov/preliminaryfloodhazarddata
Project: 16-07-0290S Preliminary Date: May 20, 2016
City of Bussey | City Hall, 313 5th Street, Bussey, IA 50044.
City of Hamilton | City Hall, 407 East Street, Hamilton, IA 50116.
City of Harvey | City Hall, 402 West Street, Harvey, IA 50119.
City of Knoxville | City Hall, 305 South 3rd Street, Knoxville, IA 50138.
City of Marysville | Marysville City Hall, 311 Cedar Street, Hamilton, IA 50116.
City of Melcher-Dallas | City Hall, 305 D Main East Street, Melcher-Dallas, IA 50062.
City of Pella | City Hall, 825 Broadway Street, Pella, IA 50219.
City of Pleasantville | City Hall, 108 West Jackson Street, Pleasantville, IA 50225.
City of Swan | City Hall, 104 Church Street, Swan, IA 50252.
Unincorporated Areas of Marion County | Marion County Engineer's Office, 402 Willetts Drive, Knoxville, IA 50138.
Monroe County, Iowa and Incorporated Areas
Maps Available for Inspection Online at: http://www.fema.gov/preliminaryfloodhazarddata
Project: 16-07-0211S Preliminary Date: May 20, 2016
City of Melrose | City Hall, 110 Kells Avenue, Melrose, IA 52569.
Unincorporated Ares of Monroe County | Monroe County Courthouse, 10 Benton Avenue East, Albia, IA 52531.
Wayne County, Iowa and Incorporated Areas
Maps Available for Inspection Online at: http://www.fema.gov/preliminaryfloodhazarddata
Project: 16-07-0215S Preliminary Date: May 20, 2016
City of Corydon | City Hall, 101 West Jackson Street, Corydon, IA 50060.
City of Seymour | City Hall, 109 North 5th Street, Seymour, IA 52590.
Unincorporated Ares of Wayne County | Wayne County Courthouse, 100 North Lafayette Street, Corydon, IA 50060.
Carver County, Minnesota and Incorporated Areas
Maps Available for Inspection Online at: http://www.fema.gov/preliminaryfloodhazarddata
Project: 07-05-2514S and 15-05-5064S Preliminary Date: September 30, 2011 and September 14, 2015
City of Carver | City Hall, 316 Broadway Street, Carver, MN 55315.
City of Chanhassen | City Hall, Planning Department, 7700 Market Boulevard, Chanhassen, MN 55317.
City of Chaska | City Hall, One City Hall Plaza, Chaska, MN 55318.
City of Cologne | City Hall, 1211 Village Parkway, Cologne, MN 55322.
City of Mayer | City Hall, 413 Bluejay Avenue, Mayer, MN 55360.
City of New Germany | Carver County Courthouse, Public Health & Environment Division, 600 East 4th Street, Chaska, MN 55318.
City of Norwood Young America | City Hall, 310 Elm Street West, Norwood Young America, MN 55368.
City of Victoria | City Hall, 1670 Stieger Lake Lane, Victoria, MN 55386.
City of Waconia | City Hall, 201 South Vine Street, Waconia, MN 55387.
City of Watertown | City Hall, 309 Lewis Avenue South, Watertown, MN 55388.
Unincorporated Areas of Carver County | Carver County Courthouse, Public Health & Environment Division, 600 East 4th Street, Chaska, MN 55318.

[FR Doc. 2016-28529 Filed 11-25-16; 8:45 am]

BILLING CODE 9110-12-P